DEPARTMENT OF AGRICULTURE

Forest Service

Payette National Forest, Idaho, Golden Hand #1 and #2 Lode Mining Claims Plan of Operations

AGENCY: Forest Service, USDA.

ACTION: Notice of intent to prepare an environmental impact statement.

SUMMARY: The USDA Forest Service will prepare an environmental impact statement (EIS) for the proposed Plan of Operations (POO) for the Golden Hand #1 and #2 lode mining claims in the Frank Church—River of No Return (FC-RONR) Wilderness on the Krassel Ranger District, Payette National Forest. The purpose of the POO is to allow for collection of subsurface geological information on the claims. The EIS will disclose the environmental effects of the POO submitted by American Independence Mines and Minerals, Inc. The Forest Service now invites comments on the scope of the Analysis and the issues to address.

DATES: Comments concerning the scope of the analysis must be received by the Payette National Forest within 30 days following the publication of this notice in the Federal Register. The Draft EIS (DEIS) for the Golden Hand #1 and #2 Lode Mining Claims Plan of Operations is expected to be available for public review in April, 2009 and the Final EIS (FEIS) and a Record of Decision are expected to be completed in July, 2009.

ADDRESSES: Written comments on this notice maybe mailed or hand-delivered to Payette National Forest, Attn: Golden Hand #1 and #2 Lode Mining Claims Plan of Operations, 800 West Lakeside Avenue, McCall, Idaho 83638. Comments may also be submitted by facsimile to (208) 634-0744 and by electronic mail (e-mail) to comments-intermtn-payette@fs.fed.us. E-mail and facsimile comments must include the words “Golden Hand #1 and #2 Lode Mining Claims Plan of Operations.”

FOR FURTHER INFORMATION CONTACT: Jim Egnew, Minerals and Geology Program Manager, in writing at Payette National Forest, 800 West Lakeside Avenue, McCall, Idaho 83638, or by telephone at (208) 634-0700.

SUPPLEMENTARY INFORMATION:

Purpose and Need for Action

American Independence Mines and Minerals, Inc. (AIMMCO) has proposed a Plan of Operations (POO) to allow for collection of subsurface geological information on the Golden Hand #1 and #2 mining claims. The mining claims are located in the Frank Church—River of No Return Wilderness (FC-RONRW), approximately 50 miles northeast of McCall, Idaho in section 26, T22N, R9E, Boise Meridian. The claims encompass approximately 20 acres each adjacent to Coin Creek, a tributary of Beaver Creek, which flows into Big Creek, a tributary of the Salmon River.

Proposed Action

The Forest Service proposes to authorize AIMMCO to perform core drilling at up to 13 locations and excavate up to 2500 feet of trenches. This proposed action would not include mining extraction or transporting of minerals for processing. Access to the claims would be on Forest Service (FS) roads to the FC-RONR Wilderness boundary at Pueblo Summit, north of the town of Edwardsburg. Proposed access would then require vehicle passage for approximately 3 miles past the wilderness boundary on FS trail #13. Within the boundary is a roadbed that existed before creation of the wilderness. The roadbed was converted to use as a trail upon establishment of the wilderness. Vehicle access would require clearing slough, downed trees, and other obstacles to maintain a safe width for equipment transport. The proposed operation would require reconstructing approximately 2000 feet of pre-existing roadbed on each claim. These roads would access 13 drill locations from which up to core holes would be drilled. Approximately 2500 feet of trench would be excavated in the roadbed to allow collection of rock chip samples. The Ella Mine, inaccessible since the 1930s, would be opened and retimbered to allow underground mapping and sampling.

Equipment proposed for use includes 4-wheel drive pickup trucks, a 3 cubic yard tracked or rubber-tired loader, tracked excavator, buggy or track mounted drill rig, D-7-size bulldozer, an air compressor, chainsaws, gasoline-powered generator, jackhammer, and hand tools. Waste rock would be placed on an existing dump at the Ella portal site. Fuel would be transported in sealed containers and stored in a leak-proof containment.

Responsible Official

The responsible official is Suzanne Rainville, Forest Supervisor of the Payette National Forest, 800 West Lakeside Avenue, McCall, Idaho 83638.

Nature of Decision To Be Made

The nature of the Forest Service decision to be made in response to the POO submitted by American Independence Mines and Minerals, Inc. is: (1) Approve the project as proposed, or (2) Notify the operator of changes or additions to the POO necessary to minimize or eliminate adverse environmental impacts from mineral activities on National Forest System (NFS) lands, as required by Forest Service regulations (36 CFR Part 228A). The Payette National Forest Supervisor has determined that preparation of the EIS is required for approval of the POO under Forest Service regulations governing locatable mineral activities on National Forest System Lands (36 CFR part 228A) and CEQ regulations implementing the National Environmental Policy Act (40 CFR parts 1501-1508).

Scoping Process

Public participation will be important at several points during the analysis, particularly during scoping of issues and review of the draft environmental impact statement (DEIS). This notice of intent initiates the scoping process, which guides the development of the EIS. The scoping process will identify potential issues and issues to be analyzed in detail, and will lead to the development of alternatives to the proposal. Comments received in response to this notice, including the names and addresses of those who comment, will be part of the project record and available for public review. The second major opportunity for public input is with the DEIS. The DEIS will analyze a range of alternatives to the proposed action, including the no-action alternative.

Preliminary Issues

Preliminary issues identified by the Forest Service interdisciplinary team include use of mechanized equipment in wilderness, protection of wilderness character, effects to threatened and endangered species, and effects to aquatic species and water quality.

Comment Requested

This notice of intent initiates the scoping process which guides the development of the environmental impact statement. The Forest Service encourages the public to express issues, concerns, and suggestions they may have about this proposed action. Comments should be directly related to issues associated with the proposed action, rather than general advocacy of or opposition to the project, to best assist us in the NEPA analysis. Although comments are welcome at any time during this NEPA analysis, they will be most useful to us if they are received within 30 days following the publication of this notice.

Early Notice of Importance of Public Participation in Subsequent Environmental Review

A draft environmental impact statement will be prepared for comment. The comment period on the draft environmental impact statement will be 45 days from the date the Environmental Protection Agency publishes the notice of availability in the Federal Register. The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (RD. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points. Comments received, including the names and addresses of those who comment, will be considered part of the public record on this proposal and will be available for public inspection.

(Authority: 40 CFR 1501.7 and 1508.22; Forest Service Handbook 1909.15, Section 21)

Dated: October 30, 2008.
Suzanne C. Rainville,
Payette National Forest Supervisor.

[FR Doc. E8-27622 Filed 11-20-08; 8:45 am]

BILLING CODE 3410-11-P